DEPARTMENT OF COMMERCE

National Oceanic and Atmospheric Administration

Notice of Availability of a Draft Management Plan for the Great Bay National Estuarine Research Reserve

AGENCY: Office for Coastal Management, National Ocean Service, National Oceanic and Atmospheric Administration, U.S. Department of Commerce.

ACTION: Notice of availability; request for comments.

SUMMARY: The National Oceanic and Atmospheric Administration (NOAA) is soliciting comments from the public on a draft revised management plan for the Great Bay National Estuarine Research Reserve. The revision of the existing plan is necessitated by the applicable requirements of the National Estuarine Research Reserve System. The Great Bay National Estuarine Research Reserve revised plan is intended to replace the plan approved in 2007.

DATES: Comments must be received at the appropriate address (see ADDRESSES) on or before April 23, 2020.

ADDRESSES: Copies of the draft Management Plan can be downloaded or viewed on the internet at https://www.greatbay.org/great-bay-draft-management-plan:-public-comment-period. The document is also available by sending a written request to the point of contact identified below (see FOR FURTHER INFORMATION).

You may submit comments on this draft Management Plan by any of the following methods:

Electronic Submission: Submit all electronic public comments by email to Adrianne.Harrison@noaa.gov.

Mail: Submit written comments to Adrianne Harrison, Office for Coastal Management, 35 Colovos Rd., Suite 148, Durham, NH 03824.

Comments submitted by any other method or after the comment period may not be considered. All comments are a part of the public record and may be publicly accessible. Any personally identifiable information (e.g., name, address) submitted voluntarily by the sender may also be accessible. NOAA will accept anonymous comments.

FOR FURTHER INFORMATION CONTACT: Adrianne Harrison of NOAA's Office for Coastal Management, by email at Adrianne.Harrison@noaa.gov, phone at (603) 862-4272, or mail at: 35 Colovos Rd., Suite 148, Durham, NH 03824

SUPPLEMENTARY INFORMATION: Pursuant to 15 CFR 921.33(c), a state must revise its National Estuarine Research Reserve management plan at least every five years. The Great Bay National Estuarine Research Reserve revised plan will replace the previously-approved plan.

The revised management plan outlines a strategic plan; administrative structure; research and monitoring, education, stewardship, wetland science and training programs of the Great Bay National Estuarine Research Reserve; resource protection plan; restoration management plan; public access and visitor use plan; consideration for future land acquisition; and facility development to support operations and programming. This management plan articulates a five-year vision for GBNERR to continue to mature as a program, deliver science to inform coastal management, and raise awareness of estuaries and their connection to people using a place-based approach.

Since 2007, the Great Bay National Estuarine Research Reserve has implemented its core and system-wide programs; secured science, education, and conservation grants to serve Great Bay communities; made significant repairs and improvements to the Discovery Center campus including installing a pervious pavement parking lot, replacing the original boardwalk, and refurbishing staff offices in the Depot House and Discovery Center; updated exhibits in Discovery Center including designed and installed marine debris exhibits; and enhanced waterfront access for kayak launching. There will be no boundary change with the approval of the revised management plan. The revised management plan will serve as the guiding document for the 10,235-acre Great Bay National Estuarine Research Reserve for the next five years.

NOAA's Office for Coastal Management will conduct an environmental analysis in accordance with the National Environmental Policy Act on the proposed approval of the Great Bay National Estuarine Research Reserve's revised management plan. The public is invited to provide comment or information about any potential environmental impacts of the proposed action, and these comments will be used to inform NOAA's decision on whether to approve the revised management plan.

(Authority: 16 U.S.C. 1461 et seq.)

Dated: March 19, 2020.
Keelin S. Kuipers,
Deputy Director, Office for Coastal Management, National Ocean Service, National Oceanic and Atmospheric Administration.

[FR Doc. 2020-06163 Filed 3-23-20; 8:45 am]

BILLING CODE 3510-08-P